SECURITIES AND EXCHANGE COMMISSION

[Release No. 34-86700A; File No. SR-FINRA-2019-017]

Self-Regulatory Organizations; Financial Industry Regulatory Authority, Inc.; Order Approving a Proposed Rule Change To Amend FINRA Rules 2210 (Communications With the Public) and 2241 (Research Analysts and Research Reports); Correction

September 4, 2019.

AGENCY: Securities and Exchange Commission.

ACTION: Notice; correction.

SUMMARY: The Securities and Exchange Commission published a document in the Federal Register on August 22, 2019, concerning a Financial Industry Regulatory Authority, Inc., Order Approving a Proposed Rule Change to Amend FINRA Rules 2210 (Communications with the Public) and 2241 (Research Analysts and Research Reports). The document contained a typographical error.

FOR FURTHER INFORMATION CONTACT: Daniel Fisher, Division of Trading and Markets, Securities and Exchange Commission, 100 F Street NE, Washington, DC 20549, (202) 551-5550.

Correction

In the Federal Register of August 22, 2019 in FR Doc. 2019-18076, on page 43836, in the third and fourth lines under the heading “Conclusion” in the second column, correct the reference to “(SR-FINRA-2018-019)” instead to “(SR-FINRA-2019-017).”

Jill M. Peterson,
Assistant Secretary.

[FR Doc. 2019-19465 Filed 9-9-19; 8:45 am]

BILLING CODE 8011-01-P